DEPARTMENT OF THE INTERIOR

Bureau of Land Management

[ID-420-2824-DD-FM04]

Notice of Intent: To Prepare an Environmental Impact Statement (EIS) for the Eastside Township Fuels and Vegetation Project

AGENCY: Bureau of Land Management, Interior.

ACTION: Notice of intent to prepare an Environmental Impact Statement (EIS).

SUMMARY: Pursuant to section 102(2)(C) of the National Environmental Policy Act of 1969, the Bureau of Land Management (BLM), Cottonwood Field Office, will be directing the preparation of an EIS for the Eastside Township Fuels and Vegetation Project and initiate the formal public scoping process. The scoping comment period will commence with the publication of this notice and will end 30 days after its publication. Comments on the scope of the EIS, including concerns, issues, or proposed alternatives that should be considered should be submitted in writing to the address below, and will be accepted throughout the scoping period. All scoping meetings will be announced 15 days in advance through the local news media, and newsletters.

DATES: The Draft EIS is expected to be distributed for public review and comment in the summer of 2005, and it's anticipated that the Final EIS should be completed four to six months later.

ADDRESSES: Written comments should be sent to the BLM, Cottonwood Field Office, Route 3, Box 181, Cottonwood, Idaho 83522, (fax (208) 962-3275), or e-mail robbin_boyce@blm.gov. Comments submitted, including names and street addresses of respondents, will be available for public review at the Cottonwood Field Office during regular business hours from 7:45 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: For further information or to have your name added to the mailing list, contact Robbin Boyce at the Cottonwood Field Office (see address above), telephone (208) 962-3594 or e-mail: robbin_boyce@blm.gov.

SUPPLEMENTARY INFORMATION: Initial scoping for this project began February 6, 2004, when a scoping letter that included a description of the proposed action and purpose and need for the project, was mailed to interested parties. Based upon the comments from the public, agencies, coalitions and Native Americans, and further field review, it was determined that further analysis and an EIS was warranted.

The proposed action implements key components of the National Fire Plan as addressed in the 10-year Comprehensive Strategy by reducing hazardous fuels conditions, reducing the risk of high intensity wildland fire to life, property and natural resources in the Elk City wildland—urban interface, and maintaining low intensity fire conditions where they exist. The proposed project implements recommendations from the Idaho County Wildland Fire and Mitigation Plan (2003) prepared by the Clearwater Resource Conservation and Development Council. The proposed action would support an upward trend in watershed/aquatic conditions as required by the Chief Joseph Management Framework Plan, and would entail changing the forest density and species composition to maintain and increase forest stand resilience to high intensity fire, insects, and disease. This would be achieved by applying various silvicultural prescriptions including salvage, patch clearcutting, seedtree/shelterwood, pre-commercial and commercial thinning, biomass utilization, grapple piling of slash, and prescribed burns. Timber harvest and prescribed burning prescriptions would be conducted on an estimated 1,300 acres. Road closure, decommissioning, and conversion of roads to trails, riparian treatments (plantings and stabilization), and in-stream habitat modification would be used to improve fish habitat and aquatic conditions.

Issues previously identified during public scoping for this project as well as comments received as a result of this Notice, will be used to prepare the EIS. Issues previously identified during public scoping for this project include the following:

• Declining forest health due to mortality from insects and disease;

• High potential for stand replacing fire; including the risk to public safety and potential property loss due to the location of residences within the forested areas;

• Desired future conditions for the seral stages of forest stands and the need and ability to control weeds;

• Access issues including the need to cross Forest Service and private lands;

• Road construction, erosion, and water quality;

• Fisheries (resident, anadromous, and listed species) habitat;

• Wildlife habitat; including big game hiding, security, thermal cover and travel corridors/connectivity;

• Cultural, heritage and visual resources; and

• Impacts of past and likely future activities in the Elk City area.

More detailed information about this project, including maps, is available at the Cottonwood Field Office, Route 3, Box 181, Cottonwood, Idaho 83522. If you previously submitted comments, they will be considered and you will be retained on the mailing list.

Dated: May 26, 2005.
K. Lynn Bennett,
State Director, Idaho.

[FR Doc. 05-13880 Filed 7-13-05; 8:45 am]

BILLING CODE 4310-66-P